FEDERAL COMMUNICATIONS COMMISSION

47 CFR Part 9

[WC Docket No. 04-36; FCC 05-116]

E911 Requirements for IP-Enabled Services

AGENCY: Federal Communications Commission.

ACTION: Final rule; announcement of effective date.

SUMMARY: This document announces that the information collection requirements adopted in the IP-Enabled Services First Report and Order (Order) were approved in OMB No. 3060-1085 and will become effective on July 29, 2005, in 47 CFR 9.5.

DATES: The rule in 47 CFR 9.5, published at 70 FR 37273, June 29, 2005 is effective July 29, 2005.

Compliance Date: Compliance with the customer notification requirements in § 9.5(e) is required by July 29, 2005. The compliance letter required by § 9.5(f) must be submitted to the Commission no later than November 28, 2005. Compliance with the requirements in § 9.5(b) through (d) is not required until November 28, 2005.

FOR FURTHER INFORMATION CONTACT: Christi Shewman, Attorney-Advisor, Competition Policy Division, Wireline Competition Bureau, at (202) 418-1686.

For additional information concerning the Paperwork Reduction Act information collection requirements, contact Judith B. Herman at (202) 418-0214, or via the Internet at Judith-B.Herman@fcc.gov.

SUPPLEMENTARY INFORMATION: A summary of the IP-Enabled Services First Report and Order was published in the Federal Register on June 29, 2005, 70 FR 37273. The IP-Enabled Services First Report and Order adopted rules requiring providers of interconnected voice over Internet Protocol (VoIP) service—meaning VoIP service that allows a user generally to receive calls originating from and to terminate calls to the public switched telephone network—to supply enhanced 911 capabilities to all of their customers as a standard feature of the service, rather than as an optional enhancement. The summary stated that with the exception of rules requiring Office of Management and Budget (OMB) approval, the rules adopted in the IP-Enabled Services First Report and Order would become effective July 29, 2005. With regard to rules requiring OMB approval, the Commission stated that it would publish a document in the Federal Register announcing the effective date of these rules. The information collection requirements in § 9.5 have been approved by OMB. In a separate document published in this issue, the Commission has announced that OMB has approved the information collection requirements adopted in the IP-Enabled Services First Report and Order. With publication of the instant document in the Federal Register, all rules adopted in the IP-Enabled Services First Report and Order are effective July 29, 2005.

Federal Communications Commission.
Marlene H. Dortch,
Secretary.

[FR Doc. 05-14842 Filed 7-26-05; 8:45 am]

BILLING CODE 6712-01-P